DEPARTMENT OF TRANSPORTATION

National Highway Traffic Safety Administration

Annual List of Defect and Noncompliance Decisions Affecting Nonconforming Imported Vehicles

AGENCY: National Highway Traffic Safety Administration (NHTSA), DOT.

ACTION: Annual list of defect and noncompliance decisions affecting nonconforming imported vehicles.

SUMMARY: This document contains a list of vehicles recalled by their manufacturers during Calendar Year 2000 (January 1, 2000 through December 31, 2000) to correct a safety-related defect or a noncompliance with an applicable Federal motor vehicle safety standard (FMVSS). The listed vehicles are those that have been decided by NHTSA to be substantially similar to vehicles imported into the United States that were not originally manufactured to conform to all applicable FMVSS. The registered importers of those nonconforming vehicles are obligated to provide their owners with notification of, and a remedy for, the defects or noncompliances for which the listed vehicles were recalled.

FOR FURTHER INFORMATION CONTACT: George Entwistle, Office of Vehicle Safety Compliance, NHTSA (202-366-5306).

SUPPLEMENTARY INFORMATION: Under 49 U.S.C. 30141(a)(1)(A), a motor vehicle that was not originally manufactured to conform to all applicable Federal motor vehicle safety standards (FMVSS) shall be refused admission into the United States unless NHTSA has decided that the motor vehicle is substantially similar to a motor vehicle of the same model year that was originally manufactured for importation into and sale in the United States and certified under 49 U.S.C. 30115. Once NHTSA decides that a nonconforming vehicle is eligible for importation, it may be imported by a person who is registered with the agency pursuant to 49 U.S.C. 30141(c). Before releasing the vehicle for use on public streets, roads, or highways, the registered importer must certify to NHTSA, pursuant to 49 U.S.C. 30146(a), that the vehicle has been brought into conformity with all applicable FMVSS.

If a vehicle originally manufactured for importation into and sale in the United States is decided to contain a defect related to motor vehicle safety, or not to comply with an applicable FMVSS, 49 U.S.C. 30147(a)(1)(A) provides that the same defect or noncompliance is deemed to exist in any nonconforming vehicle that NHTSA has decided to be substantially similar and for which a registered importer has submitted a certificate of conformity to the agency. Under 49 U.S.C. 30147(a)(1)(B), the registered importer is deemed to be the nonconforming vehicle's manufacturer for the purpose of providing notification of, and a remedy for, the defect or noncompliance.

To apprise registered importers of the vehicles for which they must conduct a notification and remedy (i.e., “recall”) campaign, 49 U.S.C. 30147(a)(2) requires NHTSA to publish in the Federal Register notice of any defect or noncompliance decision that is made with respect to substantially similar U.S. certified vehicles. Annex A contains a list of all such decisions that were made during Calendar Year 2000. The list identifies the Recall Number that was assigned to the recall by NHTSA after the agency received the manufacturer's notification of the defect or noncompliance under 49 CFR Part 573. After December 31, 2001, NHTSA will publish a comparable list of all defect and noncompliance decisions affecting nonconforming imported vehicles that are made during the current calendar year.

Authority: 49 U.S.C. 30147(a)(2); 49 CFR 593.8; delegations of authority at 49 CFR 1.50 and 501.8.

Issued on: May 7, 2001.
Marilynne Jacobs,
Director Office of Vehicle Safety, Compliance.

ANNEX A

Calendar Year 2000 Recalls Affecting Vehicles Imported by Registered Importers
Make | Model | Year | Recall No.
AUDI | A6 | 2000 | 00V137000
BLUE BIRD | TC2000 | 1993 | 00V321000
BMW | 323I | 2000 | 00V048000
BMW | 540I | 2000 | 00V048000
BMW | K1200RS | 1998 | 00V264000
BMW | K1200RS | 1998 | 00V266000
BMW | M5 | 2000 | 00V048000
BMW | X5 | 2000 | 00V010000
BMW | X5 | 2001 | 00V261000
BMW | X5 | 2001 | 00V341000
BUICK | CENTURY | 1998 | 99V356000
BUICK | CENTURY | 1999 | 99V356000
BUICK | CENTURY | 2000 | 00V143000
BUICK | CENTURY | 2000 | 00V160000
BUICK | CENTURY | 2000 | 00V228003
BUICK | CENTURY | 2000 | 00V371000
BUICK | CENTURY | 2001 | 00V228003
BUICK | CENTURY | 2001 | 00V371000
BUICK | LESABRE | 2000 | 00V114000
BUICK | LESABRE | 2000 | 99V355000
BUICK | PARK AVENUE | 1997 | 00V117000
BUICK | PARK AVENUE | 1998 | 00V117000
BUICK | REGAL | 1989 | 00V189000
BUICK | REGAL | 1990 | 00V189000
BUICK | REGAL | 1991 | 00V189000
BUICK | REGAL | 1995 | 00V171000
BUICK | REGAL | 1998 | 99V356000
BUICK | REGAL | 1999 | 99V356000
BUICK | REGAL | 2000 | 00V143000
BUICK | REGAL | 2000 | 00V160000
BUICK | REGAL | 2000 | 00V228003
BUICK | REGAL | 2000 | 00V371000
BUICK | RIVIERA | 1995 | 00V057000
CADILLAC | DEVILLE | 2000 | 00V021000
CADILLAC | DEVILLE | 2000 | 00V114000
CADILLAC | ESCALADE | 1999 | 00V122000
CADILLAC | ESCALADE | 1999 | 00V153000
CADILLAC | ESCALADE | 2000 | 00V153000
CADILLAC | SEVILLE | 2000 | 00V114000
CHEVROLET | BLAZER | 1998 | 00V202000
CHEVROLET | BLAZER | 2000 | 00V228003
CHEVROLET | BLAZER | 2001 | 00V228003
CHEVROLET | CAVALIER | 1998 | 00V053000
CHEVROLET | CAVALIER | 2000 | 00V201000
CHEVROLET | CORVETTE | 1997 | 00V111000
CHEVROLET | CORVETTE | 1998 | 00V111000
CHEVROLET | CORVETTE | 1999 | 00V111000
CHEVROLET | CORVETTE | 2000 | 00V111000
CHEVROLET | EXPRESS | 1999 | 00V085000
CHEVROLET | EXPRESS | 2000 | 00V085000
CHEVROLET | IMPALA | 2000 | 00V228003
CHEVROLET | IMPALA | 2000 | 00V371000
CHEVROLET | IMPALA | 2001 | 00V228003
CHEVROLET | IMPALA | 2001 | 00V244000
CHEVROLET | IMPALA | 2001 | 00V371000
CHEVROLET | LUMINA | 1990 | 00V189000
CHEVROLET | LUMINA | 1991 | 00V189000
CHEVROLET | MONTE CARLO | 2000 | 00V228003
CHEVROLET | MONTE CARLO | 2001 | 00V228003
CHEVROLET | MONTE CARLO | 2001 | 00V244000
CHEVROLET | S10 | 1997 | 00V069000
CHEVROLET | S10 | 1997 | 00V069200
CHEVROLET | S10 | 1997 | 00V159000
CHEVROLET | S10 | 1998 | 00V159000
CHEVROLET | S10 | 1998 | 00V202000
CHEVROLET | S10 | 2000 | 00V228003
CHEVROLET | S10 | 2000 | 00V258001
CHEVROLET | S10 | 2001 | 00V228003
CHEVROLET | SILVERADO | 1999 | 00X001000
CHEVROLET | SILVERADO | 2000 | 00V055000
CHEVROLET | SILVERADO | 2000 | 00X001000
CHEVROLET | SUBURBAN | 1999 | 00V122000
CHEVROLET | SUBURBAN | 2000 | 00V222000
CHEVROLET | SUBURBAN | 2000 | 00V343000
CHEVROLET | SUBURBAN | 2001 | 00V343000
CHEVROLET | TAHOE | 1999 | 00V122000
CHEVROLET | TAHOE | 2000 | 00V343000
CHEVROLET | TAHOE | 2001 | 00V343000
CHEVROLET | VENTURE | 2000 | 00V228003
CHEVROLET | VENTURE | 2001 | 00V228003
CHRYSLER | 300M | 1999 | 00V034000
CHRYSLER | 300M | 2000 | 00V033000
CHRYSLER | 300M | 2000 | 00V034000
CHRYSLER | 300M | 2000 | 00V366000
CHRYSLER | 300M | 2001 | 00V366000
CHRYSLER | CIRRUS | 2000 | 00V196000
CHRYSLER | CIRRUS | 2000 | 00V366000
CHRYSLER | CONCORDE | 1999 | 00V034000
CHRYSLER | CONCORDE | 2000 | 00V180000
CHRYSLER | CONCORDE | 2000 | 00V366000
CHRYSLER | LHS | 1999 | 00V034000
CHRYSLER | LHS | 2000 | 00V033000
CHRYSLER | LHS | 2000 | 00V034000
CHRYSLER | LHS | 2000 | 00V366000
CHRYSLER | PT CRUISER | 2001 | 00V366000
CHRYSLER | SEBRING | 2001 | 00V299002
CHRYSLER | SEBRING | 2001 | 00V306000
CHRYSLER | SEBRING | 2001 | 00V320002
CHRYSLER | SEBRING | 2001 | 00V366000
DODGE | CARAVAN | 1993 | 00V305000
DODGE | CARAVAN | 1994 | 00V305000
DODGE | DAKOTA | 1991 | 00V106000
DODGE | DAKOTA | 1992 | 00V106000
DODGE | DAKOTA | 1997 | 00V193000
DODGE | DAKOTA | 1997 | 00V198000
DODGE | DAKOTA | 1997 | 00V199000
DODGE | DAKOTA | 1998 | 00V193000
DODGE | DAKOTA | 1998 | 00V198000
DODGE | DAKOTA | 1999 | 00V193000
DODGE | DAKOTA | 1999 | 00V198000
DODGE | DAKOTA | 2000 | 00V193000
DODGE | DAKOTA | 2000 | 00V197000
DODGE | DAKOTA | 2000 | 00V198000
DODGE | DAKOTA | 2001 | 00V366000
DODGE | DURANGO | 2001 | 00V366000
DODGE | GRAND CARAVAN | 1993 | 00V305000
DODGE | GRAND CARAVAN | 1994 | 00V305000
DODGE | INTREPID | 1999 | 00V034000
DODGE | INTREPID | 2000 | 00V033000
DODGE | INTREPID | 2000 | 00V034000
DODGE | INTREPID | 2000 | 00V180000
DODGE | INTREPID | 2000 | 00V366000
DODGE | INTREPID | 2001 | 00V366000
DODGE | NEON | 2000 | 00V194000
DODGE | NEON | 2000 | 00V366000
DODGE | NEON | 2001 | 00V366000
DODGE | NEON | 2001 | 00V415000
DODGE | RAM | 1994 | 00V135000
DODGE | RAM | 1995 | 00V135000
DODGE | RAM | 1996 | 00V135000
DODGE | RAM | 1998 | 00V107000
DODGE | RAM | 1999 | 00V107000
DODGE | RAM | 2000 | 00V007000
DODGE | RAM | 2000 | 00V107000
DODGE | RAM | 2001 | 00V307000
DODGE | RAM | 2001 | 00V366000
DODGE | STRATUS | 2000 | 00V196000
DODGE | STRATUS | 2000 | 00V366000
DODGE | VIPER | 2000 | 00V366000
DODGE | VIPER | 2001 | 00V366000
FERRARI | 360 MODENA | 1999 | 00V078000
FERRARI | 360 MODENA | 1999 | 00V098000
FERRARI | 360 MODENA | 1999 | 00V099000
FERRARI | 360 MODENA | 1999 | 00V340000
FERRARI | 360 MODENA | 2000 | 00V340000
FERRARI | 360 MODENA F1 | 1999 | 00V098000
FERRARI | 360 MODENA F1 | 1999 | 00V099000
FERRARI | 360 MODENA F1 | 1999 | 00V340000
FERRARI | 360 MODENA F1 | 2000 | 00V340000
FORD | CONTOUR | 1996 | 00V075000
FORD | CONTOUR | 1997 | 00V075000
FORD | CONTOUR | 1998 | 00V075000
FORD | CONTOUR | 1998 | 00V350000
FORD | CONTOUR | 1999 | 00V075001
FORD | CONTOUR | 1999 | 00V350000
FORD | CROWN VICTORIA | 1996 | 00V157001
FORD | CROWN VICTORIA | 1996 | 00V157002
FORD | CROWN VICTORIA | 1997 | 00V157001
FORD | CROWN VICTORIA | 1997 | 00V157002
FORD | CROWN VICTORIA | 1998 | 00V157001
FORD | CROWN VICTORIA | 1998 | 00V157002
FORD | CROWN VICTORIA | 1998 | 00V200000
FORD | CROWN VICTORIA | 1999 | 00V157001
FORD | CROWN VICTORIA | 1999 | 00V157002
FORD | CROWN VICTORIA | 1999 | 00V200000
FORD | CROWN VICTORIA | 2000 | 00V157001
FORD | CROWN VICTORIA | 2000 | 00V157002
FORD | CROWN VICTORIA | 2000 | 00V200000
FORD | CROWN VICTORIA | 2001 | 00V270000
FORD | CROWN VICTORIA | 2001 | 00V412000
FORD | E350 | 1999 | 00V115000
FORD | E350 | 2000 | 00V115000
FORD | ECONOLINE | 1999 | 00V115000
FORD | ECONOLINE | 2000 | 00V115000
FORD | ESCAPE | 2001 | 00V210001
FORD | ESCAPE | 2001 | 00V223001
FORD | ESCAPE | 2001 | 00V260001
FORD | ESCAPE | 2001 | 00V277001
FORD | ESCAPE | 2001 | 00V387002
FORD | ESCORT | 2000 | 00V228001
FORD | EXPEDITION | 1997 | 00V073000
FORD | EXPEDITION | 1997 | 00V168000
FORD | EXPEDITION | 1998 | 00V073000
FORD | EXPEDITION | 1998 | 00V168000
FORD | EXPEDITION | 1999 | 00V073000
FORD | EXPEDITION | 2000 | 00V073000
FORD | EXPLORER | 1995 | 00V402000
FORD | EXPLORER | 1996 | 00V402000
FORD | EXPLORER | 1997 | 00V168000
FORD | EXPLORER | 1997 | 00V402000
FORD | EXPLORER | 1998 | 00V168000
FORD | EXPLORER | 1999 | 00V072000
FORD | EXPLORER | 2000 | 00V072000
FORD | EXPLORER | 2000 | 00V179000
FORD | EXPLORER | 2000 | 00V228001
FORD | F150 | 1997 | 00V168000
FORD | F150 | 1997 | 00V231000
FORD | F150 | 1998 | 00V168000
FORD | F150 | 2000 | 00V228001
FORD | F150 | 2001 | 00V348000
FORD | F250 | 1997 | 00V231000
FORD | F250 | 2000 | 00V228001
FORD | FOCUS | 2000 | 00V218000
FORD | FOCUS | 2000 | 00V302000
FORD | FOCUS | 2000 | 00V303000
FORD | FOCUS | 2000 | 00V411000
FORD | MUSTANG | 1994 | 00V349000
FORD | MUSTANG | 1995 | 00V349000
FORD | MUSTANG | 1996 | 00V349000
FORD | MUSTANG | 1997 | 00V349000
FORD | MUSTANG | 1998 | 00V349000
FORD | MUSTANG | 1999 | 00V349000
FORD | MUSTANG | 2000 | 00V349000
FORD | MUSTANG | 2001 | 00V349000
FORD | MUSTANG GT | 2000 | 00V355000
FORD | NAVIGATOR | 1998 | 00V168000
FORD | RANGER | 2000 | 00V228001
FORD | TAURUS | 2000 | 00V242000
FORD | TAURUS | 2001 | 00V240000
FORD | WINDSTAR | 1996 | 00V168000
FORD | WINDSTAR | 1997 | 00V168000
FORD | WINDSTAR | 1998 | 00V168000
FORD | WINDSTAR | 2000 | 00V020000
FORD | WINDSTAR | 2000 | 00V164000
FORD | WINDSTAR | 2000 | 00V228001
FORD | WINDSTAR | 2001 | 00V270000
FORD | WINDSTAR | 2001 | 00V412000
FREIGHTLINER | ARGOSY | 2000 | 00V081000
FREIGHTLINER | ARGOSY | 2000 | 00V082000
FREIGHTLINER | ARGOSY | 2000 | 00V232002
FREIGHTLINER | CENTURY | 1997 | 00V232002
FREIGHTLINER | CENTURY | 2000 | 00V081000
FREIGHTLINER | CENTURY | 2000 | 00V131004
FREIGHTLINER | CENTURY | 2000 | 00V232002
FREIGHTLINER | STERLING | 1999 | 00V232002
GMC | DENALI | 1999 | 00V122000
GMC | JIMMY | 2000 | 00V228003
GMC | SAVANA | 1999 | 00V085000
GMC | SAVANA | 2000 | 00V085000
GMC | SIERRA | 1999 | 00X001000
GMC | SIERRA | 2000 | 00V055000
GMC | SIERRA | 2000 | 00X001000
GMC | SONOMA | 1998 | 00V220000
GMC | SONOMA | 2000 | 00V258001
GMC | SUBURBAN | 1999 | 00V122000
GMC | SUBURBAN | 2000 | 00V222000
GMC | YUKON | 1999 | 00V122000
GMC | YUKON | 2000 | 00V343000
GMC | YUKON | 2001 | 00V343000
GMC | YUKON XL | 2000 | 00V343000
GMC | YUKON XL | 2001 | 00V343000
HONDA | ACCORD | 2000 | 00V184000
HONDA | CBR929RR | 2000 | 00V257000
HONDA | ODYSSEY | 1999 | 00V119000
HONDA | ODYSSEY | 1999 | 00V183000
HONDA | ODYSSEY | 2000 | 00V119000
HONDA | ODYSSEY | 2000 | 00V183000
HONDA | S2000 | 2000 | 00V016000
HONDA | S2000 | 2000 | 00V316000
HYUNDAI | ELANTRA | 2000 | 00V259001
HYUNDAI | ELANTRA | 2000 | 00V259002
HYUNDAI | TIBURON | 1997 | 00V095002
INFINITI | QX4 | 2001 | 00V410000
INTERNATIONAL | 2000 | 1999 | 00V176000
INTERNATIONAL | 2000 | 1999 | 00V232001
INTERNATIONAL | 2000 | 1999 | 00V246105
INTERNATIONAL | 2000 | 1999 | 00V246205
INTERNATIONAL | 9200 | 1999 | 00V149000
INTERNATIONAL | 9300 | 1998 | 00V149000
INTERNATIONAL | 9300 | 1999 | 00V149000
INTERNATIONAL | 9400 | 2000 | 00V149000
INTERNATIONAL | 9900 | 2000 | 00V149000
JAGUAR | S-TYPE | 2000 | 00V228004
JAGUAR | S-TYPE | 2000 | 00V359002
JEEP | CHEROKEE | 1996 | 00V136000
JEEP | CHEROKEE | 1997 | 00V105000
JEEP | CHEROKEE | 1997 | 00V136000
JEEP | CHEROKEE | 1998 | 00V105000
JEEP | CHEROKEE | 1998 | 00V136000
JEEP | CHEROKEE | 1999 | 00V105000
JEEP | CHEROKEE | 1999 | 00V136000
JEEP | CHEROKEE | 2001 | 00V366000
JEEP | GRAND CHEROKEE | 1996 | 00V136000
JEEP | GRAND CHEROKEE | 1997 | 00V136000
JEEP | GRAND CHEROKEE | 1998 | 00V136000
JEEP | GRAND CHEROKEE | 1999 | 00V034000
JEEP | GRAND CHEROKEE | 2000 | 00V034000
JEEP | GRAND CHEROKEE | 2000 | 00V195000
JEEP | GRAND CHEROKEE | 2001 | 00V366000
JEEP | WRANGLER | 2001 | 00V366000
KAWASAKI | NINJA | 2000 | 00V365000
KAWASAKI | NINJA | 2000 | 00V384000
LAND ROVER | RANGE ROVER | 1999 | 00V142001
LINCOLN | LS | 2000 | 00V359001
LINCOLN | LS | 2001 | 00V359001
LINCOLN | NAVIGATOR | 1997 | 00V073000
LINCOLN | NAVIGATOR | 1998 | 00V073000
LINCOLN | NAVIGATOR | 1999 | 00V073000
LINCOLN | NAVIGATOR | 2000 | 00V073000
LINCOLN | TOWN CAR | 1996 | 00V157001
LINCOLN | TOWN CAR | 1996 | 00V157002
LINCOLN | TOWN CAR | 1997 | 00V157001
LINCOLN | TOWN CAR | 1997 | 00V157002
LINCOLN | TOWN CAR | 1998 | 00V157001
LINCOLN | TOWN CAR | 1998 | 00V157002
LINCOLN | TOWN CAR | 1998 | 00V200000
LINCOLN | TOWN CAR | 1999 | 00V157001
LINCOLN | TOWN CAR | 1999 | 00V157002
LINCOLN | TOWN CAR | 1999 | 00V200000
LINCOLN | TOWN CAR | 2000 | 00V157001
LINCOLN | TOWN CAR | 2000 | 00V157002
LINCOLN | TOWN CAR | 2000 | 00V200000
LINCOLN | TOWN CAR | 2000 | 00V228001
LINCOLN | TOWN CAR | 2000 | 00V368000
MACK | CH | 1990 | 00V019003
MACK | CH | 1993 | 00V019003
MACK | MR | 1999 | 00V230003
MAZDA | 626 | 1994 | 99V358000
MAZDA | 626 | 1998 | 00V134000
MAZDA | MIATA | 1995 | 00V004000
MAZDA | MIATA | 1999 | 00V032000
MAZDA | MPV | 2000 | 00V113001
MAZDA | MX6 | 1994 | 99V358000
MAZDA | PROTEGE | 1995 | 00V118000
MAZDA | PROTEGE | 1999 | 00V301000
MAZDA | TRIBUTE | 2001 | 00V210002
MAZDA | TRIBUTE | 2001 | 00V223002
MAZDA | TRIBUTE | 2001 | 00V260002
MAZDA | TRIBUTE | 2001 | 00V277002
MAZDA | TRIBUTE | 2001 | 00V387001
MERCURY | COUGAR | 1999 | 00V075001
MERCURY | COUGAR | 2000 | 00V075001
MERCURY | GRAND MARQUIS | 1996 | 00V157001
MERCURY | GRAND MARQUIS | 1996 | 00V157002
MERCURY | GRAND MARQUIS | 1997 | 00V157001
MERCURY | GRAND MARQUIS | 1997 | 00V157002
MERCURY | GRAND MARQUIS | 1998 | 00V157001
MERCURY | GRAND MARQUIS | 1998 | 00V157002
MERCURY | GRAND MARQUIS | 1998 | 00V200000
MERCURY | GRAND MARQUIS | 1999 | 00V157001
MERCURY | GRAND MARQUIS | 1999 | 00V157002
MERCURY | GRAND MARQUIS | 1999 | 00V200000
MERCURY | GRAND MARQUIS | 2000 | 00V157001
MERCURY | GRAND MARQUIS | 2000 | 00V157002
MERCURY | GRAND MARQUIS | 2000 | 00V200000
MERCURY | MYSTIQUE | 1996 | 00V075000
MERCURY | MYSTIQUE | 1997 | 00V075000
MERCURY | MYSTIQUE | 1998 | 00V075000
MERCURY | VILLAGER | 1999 | 00V292001
MITSUBISHI | MONTERO | 1992 | 00V311001
NAVISTAR | 2674 | 1999 | 00V022000
NISSAN | FRONTIER | 2000 | 00V288000
NISSAN | QUEST | 1999 | 00V292002
NISSAN | SENTRA | 1996 | 00V063000
NISSAN | XTERRA | 2000 | 00V288000
OLDSMOBILE | ALERO | 1999 | 00V140000
OLDSMOBILE | ALERO | 2000 | 00V140000
OLDSMOBILE | AURORA | 1995 | 00V057000
OLDSMOBILE | AURORA | 2001 | 00V114000
OLDSMOBILE | CUTLASS SUPREME | 1995 | 00V171000
OLDSMOBILE | CUTLASS SUPREME | 1996 | 00V171000
OLDSMOBILE | INTRIGUE | 1998 | 00V044000
OLDSMOBILE | INTRIGUE | 1999 | 00V044000
OLDSMOBILE | INTRIGUE | 2000 | 00V114000
OLDSMOBILE | INTRIGUE | 2000 | 00V228003
OLDSMOBILE | SILHOUETTE | 2000 | 00V228003
OLDSMOBILE | SILHOUETTE | 2001 | 00V228003
PETERBILT | 320 | 1999 | 00V027000
PLYMOUTH | GRAND VOYAGER | 1993 | 00V305000
PLYMOUTH | GRAND VOYAGER | 1994 | 00V305000
PLYMOUTH | PROWLER | 2000 | 00V366000
PLYMOUTH | VOYAGER | 1993 | 00V305000
PLYMOUTH | VOYAGER | 1994 | 00V305000
PONTIAC | BONNEVILLE | 2000 | 00V114000
PONTIAC | GRAND AM | 1999 | 00V140000
PONTIAC | GRAND AM | 2000 | 00V116000
PONTIAC | GRAND AM | 2000 | 00V140000
PONTIAC | GRAND PRIX | 1989 | 00V189000
PONTIAC | GRAND PRIX | 1991 | 00V189000
PONTIAC | GRAND PRIX | 2000 | 00V228003
PONTIAC | GRAND PRIX | 2001 | 00V228003
PONTIAC | MONTANA | 2000 | 00V228003
PONTIAC | MONTANA | 2001 | 00V228003
PORSCHE | 911 | 1999 | 00V109000
PORSCHE | 911 | 2000 | 00V109000
PORSCHE | 911 CARRERA | 1999 | 00V109000
PREVOST | H3-40 | 1992 | 00V389000
PREVOST | H3-41 | 1997 | 00V389000
PREVOST | H3-41 | 1998 | 00V389000
PREVOST | H3-45 | 1997 | 00V389000
PREVOST | H3-45 | 1998 | 00V389000
PREVOST | H3-45 | 1999 | 00V133000
PREVOST | H3-45 | 1999 | 00V389000
PREVOST | H3-45 | 1999 | 00V407001
PREVOST | H3-45 | 2000 | 00V133000
PREVOST | H3-45 | 2000 | 00V342000
PREVOST | H3-45 | 2000 | 00V389000
SUZUKI | SIDEKICK | 1997 | 00V008000
TOYOTA | AVALON | 2000 | 00V154000
TOYOTA | CAMRY | 2000 | 00V154000
TOYOTA | CAMRY | 2000 | 00V252000
TOYOTA | COROLLA | 2000 | 00V252000
TOYOTA | ECHO | 2000 | 00V252000
TOYOTA | ECHO | 2000 | 00V256000
TOYOTA | SOLARA | 2000 | 00V154000
TOYOTA | TACOMA | 2000 | 00V252000
TOYOTA | TUNDRA | 2000 | 00V103000
VOLKSWAGEN | EUROVAN | 1993 | 00V039000
VOLKSWAGEN | GOLF | 2000 | 00V280000
VOLKSWAGEN | GOLF | 2001 | 00V280000
VOLVO | ACL | 1997 | 00V002002
VOLVO | S80 | 1999 | 00V238000
VOLVO | S80 | 2000 | 00V238000
VOLVO | V70 | 2000 | 00V239000
VOLVO | VN | 1999 | 00V246106
VOLVO | WCL | 1989 | 00V019001
VOLVO | WIA | 1993 | 00V019001

[FR Doc. 01-11811 Filed 5-9-01; 8:45 am]

BILLING CODE 4910-59-P